DEPARTMENT OF LABOR

Employment and Training Administration

[TA-W-61,294]

Oberle & Associates, Inc. Employed At Delphi, New Castle, IN; Notice of Termination of Investigation

Pursuant to Section 221 of the Trade Act of 1974, as amended, an investigation was initiated on April 12, 2006 in response to a worker petition filed by a State agency representative on behalf of workers of Oberle & Associates, Inc. employed at Delphi, New Castle, Indiana.

The petitioning group of workers is covered by an active certification (TA-W-60,819 as amended) which expires on February 13, 2009. Consequently, further investigation in this case would serve no purpose, and the investigation has been terminated.

Signed at Washington, DC this 20th day of April, 2007.
Richard Church,
Certifying Officer, Division of Trade Adjustment Assistance.

[FR Doc. E7-7969 Filed 4-25-07; 8:45 am]

BILLING CODE 4510-FN-P